DEPARTMENT OF HOMELAND SECURITY

Coast Guard

33 CFR Part 165

[Docket No. USCG-2017-0522]

Safety Zone; Chesapeake Bay, Virginia Beach, VA

AGENCY: Coast Guard, DHS.

ACTION: Notice of enforcement of regulation.

SUMMARY: The Coast Guard will enforce a safety zone for a fireworks display taking place over Chesapeake Bay, Virginia Beach, VA, on July 3, 2017. This action is necessary to ensure safety of life on navigable waterways during the fireworks display. Our regulation for Recurring Marine Events within the Fifth Coast Guard District identifies the regulated area for this fireworks display event. During the enforcement period, no person or vessel may enter, transit through, anchor in, or remain within the regulated area without approval from the Captain of the Port or a designated representative.

DATES: The regulations in 33 CFR 165.506 will be enforced for the location listed in the table to § 165.506(c)(6) Coast Guard Sector Hampton Roads—COTP Zone from 9 p.m. through 10 p.m. on July 3, 2017.

FOR FURTHER INFORMATION CONTACT: If you have questions about this notice of enforcement, call or email LCDR Barbara Wilk, U.S. Coast Guard Sector Hampton Roads, Waterways Management office; telephone 757-668-5580, email hamptonroadswaterway@uscg.mil.

SUPPLEMENTARY INFORMATION: The Coast Guard will enforce the safety zone in 33 CFR 165.506 from 9 p.m. until 10 p.m. on July 3, 2017, for the Shore Drive Fireworks. This action is being taken to provide for the safety of life on navigable waterways during the fireworks display. Our regulation for Recurring Marine Events within the Fifth Coast Guard District, § 165.506, specifies the location of the regulated area for this safety zone within a 400 yard radius of the center located at approximate position latitude 36°55′02″ N., longitude 076°03′27″ W., located at Virginia Beach, VA. As specified in § 165.506(d), during the enforcement period, no vessel may enter, remain in, or transit through the safety zone without approval from the Captain of the Port Sector Hampton Roads (COTP) or a COTP designated representative. The Coast Guard may be assisted by other Federal, state, or local law enforcement agencies in enforcing this regulation.

This notice of enforcement is issued under authority of 33 CFR 165.506(d) and 5 U.S.C. 552(a). In addition to this notice of enforcement published in the Federal Register, the Coast Guard plans to provide notification of this enforcement period via the Local Notice to Mariners and marine information broadcasts.

Dated: June 15, 2017.
Richard J. Wester,
Captain, U.S. Coast Guard, Captain of the Port, Hampton Roads.

[FR Doc. 2017-12941 Filed 6-20-17; 8:45 am]

BILLING CODE 9110-04-P